DEPARTMENT OF VETERANS AFFAIRS

[OMB Control No. 2900-0863]

Agency Information Collection Activity: Clause 852.237-73, Crime Control Act—Requirement for Background Checks

AGENCY: Office of Acquisition and Logistics, Department of Veterans Affairs.

ACTION: Notice.

SUMMARY: Office of Acquisition and Logistics (OAL), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before November 17, 2025.

ADDRESSES: Comments must be submitted through www.Regulations.gov.

FOR FURTHER INFORMATION CONTACT:

Program-Specific Information: Forrest Browne, 202-632-9677, Forrest.Browne@va.gov.

VA PRA Information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OAL invites comments on: (1) whether the proposed collection of information is necessary for the proper performance of OAL's functions, including whether the information will have practical utility; (2) the accuracy of OAL's estimate of the burden of the proposed collection of information; (3) ways to enhance the quality, utility, and clarity of the information to be collected; and (4) ways to minimize the burden of the collection of information on respondents, including through the use of automated collection techniques or the use of other forms of information technology.

Title: Clause 852.237-73, Crime Control Act—Requirement for Background Checks.

OMB Control Number: 2900-0863. https://www.reginfo.gov/public/do/PRASearch (Once at this link, you can enter the OMB Control Number to find the historical versions of this Information Collection).

Type of Review: Extension without change of a currently approved collection.

Abstract: This Paperwork Reduction Act (PRA) submission seeks renewal without changes of Office of Management and Budget (OMB) approved No. 2900-0863, VAAR clause 852.237-73, Crime Control Act—Requirement for Background Checks. Under the Crime Control Act of 1990 (34 U.S.C. 20351), each agency of the Federal Government, and every facility operated by the Federal Government, or operated under contract with the Federal Government, that hires, or contracts for hire, individuals involved with the provision to children under the age of 18 of childcare services shall assure that all existing and newly hired employees undergo a criminal history background check. VAAR clause 852.237-73, Crime Control Act—Requirement for Background Checks, is required in all solicitations, contracts, and orders that involve providing childcare services to children under the age of 18, including social services, health and mental health care, child-(day) care, education (whether or not directly involved in teaching), and rehabilitative programs covered under the statute.

Affected Public: Business or other for-profit.

Estimated Annual Burden: 1,500 hours.

Estimated Average Burden per Respondent: 60 minutes.

Frequency of Response: One per contract employee.

Estimated Number of Respondents: 1,500.

Authority: 44 U.S.C. 3501 et seq.

Shunda Willis,
Acting, VA PRA Clearance Officer, (Alt.) Office of Enterprise and Integration/Data Governance Analytics, Department of Veterans Affairs.

[FR Doc. 2025-17965 Filed 9-16-25; 8:45 am]

BILLING CODE 8320-01-P